DEPARTMENT OF EDUCATION

Privacy Act of 1974; System of Records

AGENCY: Office of the Chief Information Officer, Department of Education.

ACTION: Notice of altered and deleted systems of records under the Privacy Act of 1974.

SUMMARY: In accordance with the Privacy Act of 1974, 5 U.S.C. 552a, as amended (Privacy Act), the Department of Education (Department) publishes this notice proposing an altered system of records entitled “Freedom of Information Act and Privacy Act Tracking System.” The Department also deletes the system of records entitled “Freedom of Information Act and Privacy Act Case Files” (18-04-01) from its existing inventory of systems of records subject to the Privacy Act.

For the Freedom of Information Act (FOIA) and Privacy Act (PA) Tracking System, this notice updates the system location and system of records notice (SORN) number, categories of individuals covered by the system, categories of records in the system, system managers and addresses, and routine uses.

The Department identifies the system of records, Freedom of Information Act and Privacy Act Case Files (18-04-01), as published in the Federal Register on December 27, 1999 (64 FR 72384, 72385-72387) to be deleted because it has been consolidated and merged into the FOIA and PA Tracking System (18-05-20).

DATES: The Department seeks comments on the altered and deleted systems of records described in this notice, in accordance with the requirements of the Privacy Act. We must receive your comments on the proposed changes to the FOIA and PA Tracking System of records included in this notice on or before June 29, 2015.

The Department filed a report describing the alterations to the FOIA and PA Tracking System of records with the Chair of the Senate Committee on Homeland Security and Governmental Affairs, the Chair of the House Committee on Oversight and Government Reform, and the Administrator of the Office of Information and Regulatory Affairs, Office of Management and Budget (OMB) on May 14, 2015. The alterations to the FOIA and PA Tracking System of records will become effective at the later date of: (1) The expiration of the 40-day period for OMB review on June 23, 2015, unless OMB waives 10 days of the 40-day review period for compelling reasons shown by the Department; or (2) June 29, 2015, unless the altered FOIA and PA Tracking system of records needs to be changed as a result of public comment or OMB review. The Department will publish any changes to the altered system of records notice that result from public comment or OMB review.

ADDRESSES: Address all comments about the FOIA and PA Tracking System to Freedom of Information Act Service Center Director, Office of Management, U.S. Department of Education, 400 Maryland Ave. SW., LBJ 2E305, Washington, DC 20202-4536. If you prefer to send your comments by email, use the following address: comments@ed.gov.

You must include the phrase “Freedom of Information Act and Privacy Act Tracking System” in the subject line of your email.

During and after the comment period, you may inspect all public comments about this notice in Room 502D, 555 New Jersey Avenue NW., Washington, DC, between the hours of 8:00 a.m. and 4:30 p.m., Eastern time, Monday through Friday of each week except Federal holidays.

Assistance to Individuals with Disabilities in Reviewing the Rulemaking Record: On request we will supply an appropriate aid to an individual with a disability who needs assistance to review the comments or other documents in the public rulemaking record for this notice. If you want to schedule an appointment for this type of accommodation or auxiliary aid, please contact the person listed under FOR FURTHER INFORMATION CONTACT.

FOR FURTHER INFORMATION CONTACT: Freedom of Information Act Service Center Director, Office of Management, U.S. Department of Education, 400 Maryland Ave. SW., Room LBJ 2E305, Washington, DC 20202-4536. Telephone: (202) 453-6362.

If you use a telecommunications device for the deaf (TDD), you may call the Federal Relay Service (FRS) at 1-800-877-8339.

Individuals with disabilities may obtain this document in an alternative format (e.g., braille, large print, audiotape, or computer diskette) on request to the contact person listed in the above paragraph.

SUPPLEMENTARY INFORMATION:

Introduction

The Privacy Act (5 U.S.C. 552a(e)(4) and (11)) requires the Department to publish in the Federal Register this notice of an altered system of records. The Department's regulations implementing the Privacy Act are contained in the Code of Federal Regulations (CFR) in 34 CFR part 5b.

The Privacy Act applies to any record about an individual that is maintained in a system of records from which individually identifying information is retrieved by a unique identifier associated with each individual, such as a name or social security number (SSN). The information about each individual is called a “record,” and the system, whether manual or computer-based, is called a “system of records.”

The Privacy Act requires each agency to publish notices of systems of records in the Federal Register and to prepare and send reports to the Administrator of the Office of Information and Regulatory Affairs, OMB whenever the agency publishes a new or altered system of records. Each agency is also required to send copies of the report to the Chair of the Senate Committee on Homeland Security and Governmental Affairs and the Chair of the House of Representatives Committee on Oversight and Government Reform. These reports are included to permit an evaluation of the probable effect of the proposal on the privacy rights of individuals.

Since the last publication of the FOIA and PA Tracking System of records in the Federal Register on June 4, 1999 (64 FR 30106, 30119-22), a number of changes have been identified that are needed to update and accurately depict the current state of the system of records.

The changes in the attached notice for the FOIA and PA Tracking System are numerous.

First, the system location has been updated to reflect the relocation of the Department's data center; to change its numbering from 18-04-02 to 18-05-20, and change the system location from the Office of the Chief Information Officer (CIO) to the Office of Management (OM).

Second, the paragraph in the notice describing the categories of individuals covered by the system is being updated to include individuals who have submitted requests for FOIA administrative appeals; individuals whose requests for records have been referred to the Department by other agencies; individuals who are the subject of such requests, appeals; and/or personnel assigned to handle such requests and appeals.

Third, the paragraph in the notice describing the categories of records contained in the system originally stated that copies of requested records were not maintained in the system. This notice is updating the categories of records in the system to state that copies of requested records are maintained in the system. In addition, the categories of records in the system have been updated to include the following records and related correspondence on individuals: requester's name, address, telephone number, email address, amount of fees paid and payment delinquencies, if any; the original requests and administrative appeals, responses to such requests and appeals, all related memoranda, correspondence, notes, and other related or supporting documentation, summary of log, and in some instances, copies of requested records and records under administrative appeal.

Fourth, the routine uses of records maintained in the system have been updated and two new routine uses will be added.

The Department proposes to revise routine use (3)(a)(iii) “Litigation and Alternative Dispute Resolution (ADR) Disclosures” to permit the Department to disclose certain records from this system to the parties described in routine use paragraphs (3)(b) “Disclosure to the Department of Justice (DOJ),” (3)(c) “Administrative Disclosures,” and (3)(d) “Parties, Counsel, Representatives, and Witnesses” for any Department employee in his or her individual capacity if the DOJ has been requested to provide or arrange for representation of the employee. This proposed routine use is compatible with this system of records because it will allow the Department to disclose records from this system of records as needed to obtain legal representation for Department employees.

The Department proposes to revise routine use (6) “Labor Organization Disclosure” to permit the Department to disclose records from this system to an arbitrator to resolve disputes under a negotiated grievance procedure or to officials of labor organizations recognized under 5 U.S.C. chapter 71 when relevant and necessary to their duties of exclusive representation. This proposed routine use is compatible with this system of records because it will permit the Department to fulfill its statutory obligation to allow a labor organization to perform its duties of exclusive representation and it will permit the disclosure of records to arbitrators as needed to resolve disputes pursuant to negotiated grievance procedures.

The Department also proposes to revise routine use (7) “Freedom of Information Act (FOIA) and Privacy Act Advice Disclosure” to permit the Department to disclose records from this system to the Department of Justice and OMB if the Department concludes that disclosure is desirable or necessary in determining whether particular records are required to be disclosed under the FOIA or the Privacy Act. This proposed routine use is compatible with the purposes of this system because it will permit the Department to obtain counsel necessary to ensure that individual privacy rights are protected and FOIA requirements are met and followed.

The Department proposes to add a new, routine use (13) “Disclosure in the Course of Responding to a Breach of Data” to permit the Department to disclose records from this system to appropriate agencies, entities, and persons when: (a) The Department suspects or has confirmed that the security or confidentiality of information in the system of records has been compromised; (b) the Department has determined that as a result for the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm. This proposed routine use is compatible with the purposes of the system because it will permit the Department to take appropriate steps in response to a breach of personally identifiable information that is maintained in this system and to abide by the requirements relating to a breach of personally identifiable information that are set forth in OMB Memorandum 07-16 “Safeguarding Against and Responding to the Breach of Personally Identifiable Information.”

The Department proposes to add a new, routine use (14) “Disclosure to National Archives Records Administration, Office of Government Information Services (OGIS),” to the extent necessary to fulfill its responsibilities in 5 U.S.C. 552(h), to review administrative agency policies, procedures and compliance with the Freedom of Information Act (FOIA), and to facilitate OGIS' offering of mediation services to resolve disputes between persons making FOIA requests and administrative agencies.

Fifth, the policies and practices for storing, retrieving, accessing, retaining, and disposing of records in the system have been updated to include storage of data in a computer database, because the original FOIA and PA Tracking System notice omitted this. Further, the retention and disposal policy has been updated to comply with the General Records Schedule (GRS) approved by NARA.

Sixth, the description of safeguards has been updated to include additional security measures that have been put in place.

Finally, the Department updated the description of the system managers and their addresses to reflect minor changes in addresses.

Electronic Access to This Document

The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 26, 2015.
Andrew Jackson,
Assistant Secretary for Management.

For the reasons discussed in the preamble, the Principal Deputy Assistant Secretary for Management of the U.S. Department of Education (Department) publishes a notice of deleted and altered systems of records to read as follows:

DELETED SYSTEMS

The Department identifies the system of records entitled the “Freedom of Information Act and Privacy Act Case Files” (18-04-01), as published in the Federal Register on December 27, 1999 (64 FR 72384, 72385-72387), to be deleted. It has been consolidated and merged into the “Freedom of Information Act and Privacy Act Tracking System” (18-05-20).

ALTERED SYSTEM NUMBER:

18-05-20

ALTERED SYSTEM NAME:

Freedom of Information Act and Privacy Act Tracking System.

SECURITY CLASSIFICATION:

None.

SYSTEM LOCATION:

Electronic Data Records: Plano Technology Center, 2300 West Plano Parkway, Plano, TX 75075.

See Appendix for additional system locations.

CATEGORIES OF INDIVIDUALS COVERED BY THE SYSTEM:

This system contains records on individuals or their representatives who have submitted Freedom of Information Act (FOIA) or Privacy Act (PA) requests for records and/or FOIA administrative appeals with the Department; individuals whose requests for records have been referred to the Department by other agencies; individuals who are the subject of such requests, appeals; and/or the Department personnel assigned to handle such requests and appeals.

CATEGORIES OF RECORDS IN THE SYSTEM:

This system consists of records created or compiled in response to FOIA requests, PA requests or both FOIA/PA requests for records or subsequent administrative appeals to include: The requester's name, address, telephone number, email address; amount of fees paid, and payment delinquencies, if any; the original requests and administrative appeals; responses to such requests and appeals; all related memoranda, correspondence, notes, and other related or supporting documentation, summary of log, and in some instances copies of requested records and records under administrative appeal.

Note: Since these FOIA/PA case records contain inquiries and requests regarding the Department's other systems of records subject to the Privacy Act, information about individuals from any of these other systems may become part of this FOIA and PA Tracking System.

AUTHORITY FOR MAINTENANCE OF THE SYSTEM:

The Freedom of Information Act, 5 U.S.C. 552, as amended; The Privacy Act of 1974, 5 U.S.C. 552a, as amended.

PURPOSE(S):

This system is used to document and track the status of requests made under both FOIA and the Privacy Act. This system is also used to generate the annual report to the Department of Justice (DOJ) as required by the Freedom of Information Act and the biennial report to the OMB and Congress as required by the Privacy Act.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with a purpose for which the record was collected. These disclosures are made on a case-by-case basis or, if the Department has complied with the computer matching requirements of the Privacy Act, under a computer matching agreement.

(1) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(2) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(3) Litigation and ADR Disclosures.

(a) Introduction. In the event that one of the parties listed below is involved in litigation or ADR, or has an interest in litigation ADR, the Department may disclose certain records to the parties described in paragraphs (b), (c) and (d) of this routine use under the conditions specified in those paragraphs:

(i) The Department, or any of its components; or

(ii) Any Department employee in his or her official capacity; or

(iii) Any Department employee in his or her individual capacity if the Department of Justice (DOJ) has agreed to or has been requested to provide or arrange for representation of the employee;

(iv) Any Department employee in his or her individual capacity where the Department has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Adjudicative Disclosures. If the Department determines that disclosure of certain records to an adjudicative body before which the Department is authorized to appear, an individual or entity designated by the Department or otherwise empowered to resolve or mediate disputes is relevant and necessary to the litigation or ADR, the Department may disclose those records as a routine use to the adjudicative body, individual, or entity.

(d) Parties, Counsel, Representatives, and Witnesses. If the Department determines that disclosure of certain records to a party, counsel, representative, or witness is relevant and necessary to the litigation or ADR, the Department may disclose those records as a routine use to the party, counsel, representative, or witness.

(4) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(5) Employee Grievance, Complaint or Conduct Disclosure. The Department may disclose a record in this system of records to another agency of the Federal Government if the record is relevant to one of the following proceedings regarding a present or former employee of the Department: A complaint, a grievance, or a disciplinary or competence determination proceeding. The disclosure may only be made during the course of the proceeding.

(6) Labor Organization Disclosure. The Department may disclose records from this system to an arbitrator to resolve disputes under a negotiated grievance procedure or to officials of labor organizations recognized under 5 U.S.C. chapter 71 when relevant and necessary to their duties of exclusive representation.

(7) Freedom of Information Act (FOIA) and Privacy Act Advice Disclosure. The Department may disclose records to the DOJ and the Office of Management and Budget if the Department concludes that disclosure is desirable or necessary in determining whether particular records are required to be disclosed under the FOIA or the Privacy Act.

(8) Disclosure to the DOJ. The Department may disclose records to the DOJ to the extent necessary for obtaining DOJ advice on any matter relevant to an audit, inspection, or other inquiry related to the programs covered by this system.

(9) Contract Disclosure. If the Department contracts with an entity for the purposes of performing any function that requires disclosure of records in this system to employees of the contractor, the Department may disclose the records to those employees. Before entering into such a contract, the Department shall require the contractor to maintain Privacy Act safeguards as required under subsection (m) of the Privacy Act (5 U.S.C. 552a(m)) with respect to the records in the system.

(10) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(11) Congressional Member Disclosure. The Department may disclose records to a member of Congress from the record of an individual in response to an inquiry from the member made at the written request of that individual. The member's right to the information is no greater than the right of the individual who requested it.

(12) Disclosure to the OMB for Credit Reform Act (CRA) Support. The Department may disclose records to OMB as necessary to fulfill CRA requirements.

(13) Disclosure in the Course of Responding to a Breach of Data. The Department may disclose records from this system to appropriate agencies, entities, and persons when: (a) The Department suspects or has confirmed that the security or confidentiality of information in the system of records has been compromised; (b) the Department has determined that as a result for the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

(14) Disclosure to National Archives Records Administration, Office of Government Information Services (OGIS). The Department may disclose records to the National Archives and Records Administration (NARA), Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

DISCLOSURE TO CONSUMER REPORTING AGENCIES:

Not applicable to this notice.

POLICIES AND PRACTICES FOR STORING, RETRIEVING, ACCESSING, RETAINING, AND DISPOSING OF RECORDS IN THE SYSTEM:

STORAGE:

Paper records are kept in file folders in locked file cabinets. Electronic records are kept in a computer database and on a web-based portal maintained by the Department.

RETRIEVABILITY:

Records are retrieved by the name of the individual or the control tracking number.

SAFEGUARDS:

All physical access to the sites of the Department and the Department's contractors where this system of records are maintained is controlled and monitored by security personnel who check each individual entering the building for his or her employee badge. Paper files are kept in locked file cabinets. Immediate access to these records is restricted to authorized staff. Direct access to the computer system employed by the Department is restricted to authorized Department staff performing official duties. Authorized staff members are assigned passwords that must be used for access to computerized data. Also, an additional password is necessary to gain access to the system. The system-access password is changed frequently. The Department's information system's security posture has been certified and accredited in accordance with applicable Federal standards. The computer database maintained by Privacy Information & Records Management Services, Office of Management, is accessible only to authorized persons and is password-protected and utilizes security hardware and software. Additionally, the web-based portal is accessible only to authorized persons and is password-protected.

In accordance with the Federal Information Security Management Act of 2002 (FISMA), the Freedom of Information Act and Privacy Act Tracking System must receive a signed Authority to Operate (ATO) from a designated Education official. The ATO process includes an assessment of security controls, a plan of action and milestones to remediate any identified deficiencies, and a continuous monitoring program.

FISMA controls implemented by the Department include a combination of management, operational, and technical controls, and include the following control families: Access control, awareness and training, audit and accountability, security assessment and authorization, configuration management, contingency planning, identification and authentication, incident response, maintenance, media protection, physical and environmental protection, planning, personnel security, privacy, risk assessment, system and services acquisition, system and communications protection, system and information integrity, and program management.

RETENTION AND DISPOSAL:

Records relating to FOIA and PA Tracking System are retained in accordance with General Records Schedule (GRS 14):

FOIA Requests Files—GRS 14, Item 11a (Ed Schedule No.: 151)

FOIA Appeals Files—GRS 14, Item 12.a-c (Ed Schedule No.: 152)

FOIA Control Files —GRS 14, Item 13.a-c (Ed Schedule No.: 153)

FOIAXpress—ED 086 Information Systems Supporting Materials for System Software

SYSTEM MANAGER(S) AND ADDRESS:

Freedom of Information Act Service Center Director, Room LBJ 2E305, 400 Maryland Ave. SW., Washington, DC 20202.

NOTIFICATION PROCEDURE:

If an individual wishes to gain access to a record in this system of records, he or she should contact the system manager at the appropriate office or region where the original FOIA or Privacy Act requests were sent, or from where the response was received. A request to amend a record must meet the requirements of the Department's Privacy Act regulations in 34 CFR 5b.5, including proof of identity.

RECORD ACCESS PROCEDURES:

If an individual wishes to gain access to a record in this system of records, he or she should contact the system manager at the appropriate office or region where the original FOIA or Privacy Act requests were sent, or from where the response was received. A request to amend a record must meet the requirements of the Department's Privacy Act regulations in 34 CFR 5b.5, including proof of identity.

CONTESTING RECORD PROCEDURES:

If an individual wishes to contest the content of a record pertaining to him or herself that is contained in the system of records, he or she should contact the system manager at the appropriate office or region where the original FOIA or Privacy Act requests were sent (see appendix), or from where the response was received. A request to amend a record must meet the requirements of the Department's Privacy Act regulations in 34 CFR 5b.7.

RECORD SOURCE CATEGORIES:

Information in this system of records is obtained from the individual who submitted the request, officials of the Department, and official Department documents.

EXEMPTIONS CLAIMED FOR THE SYSTEM:

None.

Appendix to 18-05-20

FOIA Program Offices

Office of the Secretary, U.S. Department of Education, 400 Maryland Avenue SW., Room 7C122, Washington, DC 20202.

Office of the Under Secretary, U.S. Department of Education, 400 Maryland Avenue SW., Room 7E313, Washington, DC 20202.

Office of the Deputy Secretary, U.S. Department of Education, 400 Maryland Avenue SW., Room 7W316, Washington, DC 20202.

Office of the Chief Financial Officer, U.S. Department of Education, Potomac Center Plaza, 550 12th Street SW., Room 6105, Washington, DC 20202.

Office of Chief Information Officer, U.S. Department of Education, Potomac Center Plaza, 550 12th Street SW., Room 9111, Washington, DC 20202.

Office of Special Education and Rehabilitative Services, U.S. Department of Education, Potomac Center Plaza, 550 12th Street SW., Room 5064, Washington, DC 20202.

Office of Career, Technical, and Adult Education, U.S. Department of Education, Potomac Center Plaza, 550 12th Street SW., Room 11129, Washington, DC 20202.

Office of the General Counsel, U.S. Department of Education, 400 Maryland Avenue SW., Room 6E333, Washington, DC 20202.

Office of Management, U.S. Department of Education, 400 Maryland Avenue SW., Room 2E209, Washington, DC 20202.

Office of Inspector General, U.S. Department of Education, Potomac Center Plaza, 550 12th Street SW., Room 8086, Washington, DC 20202.

Office of Elementary and Secondary Education, U.S. Department of Education, 400 Maryland Avenue SW., Room 3W253, Washington, DC 20202.

Office of Student Financial Assistance Programs, U.S. Department of Education, Union Center Plaza, 830 1st Street NE., Room 22D2, Washington, DC 20202.

Office for Civil Rights, U.S. Department of Education, 400 Maryland Avenue SW., Room 4C151, Washington, DC 20202.

Institute of Education Sciences, U.S. Department of Education, Capital Place, 555 New Jersey Avenue NW., Room 627B, Washington, DC 20208.

Office of Postsecondary Education, U.S. Department of Education, 1990 K Street NW., Room 7147, Washington, DC 20006.

Office of Legislation & Congressional Affairs, U.S. Department of Education, 400 Maryland Avenue SW., Room 6W352, Washington, DC 20202.

Office of Communication & Outreach, U.S. Department of Education, 400 Maryland Avenue SW., Room 5E225, Washington, DC 20202.

Office of Planning, Evaluation and Policy Development, U.S. Department of Education, 400 Maryland Avenue SW., Room 5E319, Washington, DC 20202.

National Assessment Governing Board, 800 North Capitol Street NW., Room 825, Washington, DC 20002.

Regional FOIA Offices

Region I: Regional Director, OCR, 5 Post Office Square, 8th Floor, Boston, MA 02109-3921.

Region II: Regional Director, OCR, 32 Old Slip, 26th Floor, New York, NY 10005-2500.

Region III: Regional Director, OCR, The Wanamaker Building, 100 Penn Square East, Suite 515, Philadelphia, PA 19107-3323.

Region IV: Regional Director, OCR, 61 Forsyth Street SW., Suite 19T10, Atlanta, GA 30303-8927.

Region V: Regional Director, OCR Citigroup Center, 500 W. Madison Street, Suite 1475, Chicago, IL 60661

Region VI: Regional Director, OCR, 1999 Bryan Street, Suite 1620, Dallas, TX 75201-6810.

Region VII: Regional Director, OCR, One Petticoat Lane, 1010 Walnut Street, Suite 320, 3rd Floor, Kansas City, MO 64106.

Region VIII: Regional Director, OCR, Cesar E. Chavez Memorial Building, 1244 Speer Boulevard, Suite 310, Denver, CO 80204-3582.

Region IX: Regional Director, OCR 50 Beale Street, Suite 7200, San Francisco, CA 94105.

Region X: Regional Director, OCR, 915 Second Avenue, Room 3310, Seattle, WA 98174-1099.

Region XI: Regional Director, OCR, 400 Maryland Avenue SW., Washington, DC 20202-1745.

Region XV: Regional Director, OCR, 1350 Euclid Avenue, Suite 325, Cleveland, OH 44115.

[FR Doc. 2015-13048 Filed 5-28-15; 8:45 am]

BILLING CODE 4000-01-P